DEPARTMENT OF LABOR

Employment and Training Administration

[NAFTA-6124]

Holophane, a Division of Acuity Lighting Group, Inc., Springfield, OH; Notice of Negative Determination Regarding Application for Reconsideration

By application dated July 9, 2002, the International Union, UAW, Region 2B and Local Union No. 1876 requested administrative reconsideration of the Department's negative determination regarding eligibility to apply for North American Free Trade Agreement-Transitional Adjustment Assistance (NAFTA-TAA), applicable to workers and former workers of the subject firm. The denial notice was signed on May 22, 2002, and was published in the Federal Register on June 11, 2002 (67 FR 40005).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The denial of NAFTA-TAA for workers engaged in activities related to the production of castings which are sold within the corporation at Holophane, a Division of Acuity Lighting Group, Inc., Springfield, Ohio was based on the finding that criteria (3) and (4) of the group eligibility requirements of paragraph (a)(1) of Section 250 of the Trade Act, as amended, were not met. There were no company imports of castings from Mexico or Canada, nor did the subject firm shift production from Springfield, Ohio to Mexico or Canada. The subject firm has decided to outsource castings domestically and transfer some other secondary functions to another company facility in the United States.

The petitioner alleges that the subject firm shifted subject plant machinery and equipment to a warehouse located in Brownsville, Texas and then shipped the machinery to an affiliated plant located in Matamoros, Mexico that produces outdoor architectural lighting fixtures and poles. The petitioner also supplied pictures and various shipping information (printed and handwritten) pertaining to the shifts in plant machinery to Mexico.

A review of the company data supplied in the initial decision shows the subject plant was an internal component supplier of Aluminum Die-Castings, Low Pressure Castings and Sand Casting to an affiliated Holophane manufacturing plant located in Newark, New Jersey. As part of a business diagnostics project, an evaluation was made by the company to determine if Holophane should continue to produce its own castings since manufacturing Aluminum castings is not a core competency of Holophane. Consequently, the building and Die Cast equipment was sold to a domestic company located in Arkansas with a production plant located in Tennessee. The plant located in Tennessee will supply the Die cast component parts to Holophane. With regard to the Low-pressure Castings and Sand Casting, other firms located in Ohio are now supplying Holophane products produced by the subject plant. All secondary operations previously performed at the Springfield facility have been transferred to affiliated plants located in Utica, Ohio. Therefore, all of the work performed at the subject plant prior to the closure is still being produced in the United States, either at Company facilities or by various domestic suppliers.

Further review of the initial decision shows that a very small amount of the foundry equipment from Springfield was transferred to the company's existing foundry operation at the Cast Light de Mexico S. A. plant located in Matamoros, Mexico. The transferred equipment to Mexico shows the machinery was not being used and therefore has not replaced any of the production previously performed at the Springfield, Ohio plant during the relevant period.

Conclusion

After review of the application and investigative findings, I conclude that there has been no error or misinterpretation of the law or of the facts which would justify reconsideration of the Department of Labor's prior decision. Accordingly, the application is denied.

Signed at Washington, DC, this 6th day of August, 2002.
Edward A. Tomchick,
Director, Division of Trade Adjustment Assistance.

[FR Doc. 02-20619 Filed 8-13-02; 8:45 am]

BILLING CODE 4510-30-P